DEPARTMENT OF TRANSPORTATION

Federal Aviation Administration

14 CFR Part 39

[Docket No. FAA-2017-0759; Product Identifier 2017-CE-023-AD; Amendment 39-18980; AD 2017-16-03]

RIN 2120-AA64

Airworthiness Directives; Piper Aircraft, Inc. Airplanes

AGENCY: Federal Aviation Administration (FAA), DOT.

ACTION: Final rule; request for comments.

SUMMARY: We are adopting a new airworthiness directive (AD) for certain Piper Aircraft, Inc. (Piper) Model PA-46-600TP (M600) airplanes. This AD requires inspection of the aft wing spars with repair as necessary. This AD was prompted by a report from Piper of the aft wing spar cracking during wing assembly. We are issuing this AD to address the unsafe condition on these products.

DATES: This AD is effective August 9, 2017.

The Director of the Federal Register approved the incorporation by reference of a certain publication listed in this AD as of August 9, 2017.

We must receive comments on this AD by September 25, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this final rule, contact Piper Aircraft, Inc., Customer Service, 2926 Piper Drive, Vero Beach, Florida 32960; telephone: (877) 879-0275; fax: none; email: customer.service@piper.com; Internet: www.piper.com. You may view this referenced service information at the FAA, Policy and Innovation Division, 901 Locust, Kansas City, Missouri 64106. For information on the availability of this material at the FAA, call (816) 329-4148. It is also available on the internet at http://www.regulations.gov by searching for and locating Docket No. FAA-2017-0759.

Examining the AD Docket

You may examine the AD docket on the Internet at http://www.regulations.gov by searching for and locating Docket No. FAA-2017-0759; or in person at the Docket Management Facility between 9 a.m. and 5 p.m., Monday through Friday, except Federal holidays. The AD docket contains this final rule, the regulatory evaluation, any comments received, and other information. Comments will be available in the AD docket shortly after receipt.

FOR FURTHER INFORMATION CONTACT: William (Dan) McCully, Aerospace Engineer, Atlanta ACO Branch, FAA, 1701 Columbia Avenue, College Park, Georgia 30337; phone: (404) 474-5548; fax: (404) 474-5606; email: william.mccully@faa.gov.

SUPPLEMENTARY INFORMATION:

Discussion

We received a report from Piper of an aft wing spar cracking during wing assembly on a Model PA-46-600TP (M600) airplane. An investigation of the incident identified that the supplier may have delivered aft wing spars to Piper that did not conform to Piper's type design specifications and requirements. A quality escape during manufacturing resulted in an understrength part, and these nonconforming parts may have been installed on some of the affected airplanes. This condition, if not corrected, could result in failure of the aft wing spar and lead to wing separation with consequent loss of control. We are issuing this AD to correct the unsafe condition on these products.

Related Service Information Under 1 CFR Part 51

We reviewed Piper Aircraft, Inc. Service Bulletin No. 1317A, dated July 26, 2017. The service bulletin describes procedures for a visual inspection of the affected area and describes flight restrictions for allowing the optional special flight permit that allows a one-time flight to a facility capable of doing the inspections and repair required by this AD. This service information is reasonably available because the interested parties have access to it through their normal course of business or by the means identified in the ADDRESSES section.

FAA's Determination

We are issuing this AD because we evaluated all the relevant information and determined the unsafe condition described previously is likely to exist or develop in other products of the same type design.

AD Requirements

This AD requires inspection of the aft wing spars with repair as necessary.

Interim Action

We consider this AD interim action. We are coordinating with Piper on the development of inspection and repair procedures to address this unsafe condition.

FAA's Justification and Determination of the Effective Date

An unsafe condition exists that requires the immediate adoption of this AD. The FAA has found that the risk to the flying public justifies waiving notice and comment prior to adoption of this rule because failure of the aft wing spar could result in wing separation with consequent loss of control. Therefore, we find that notice and opportunity for prior public comment are impracticable and that good cause exists for making this amendment effective in less than 30 days.

Comments Invited

This AD is a final rule that involves requirements affecting flight safety and was not preceded by notice and an opportunity for public comment. However, we invite you to send any written data, views, or arguments about this final rule. Send your comments to an address listed under the ADDRESSES section. Include the Docket No. FAA-2017-0759 and Product Identifier 2017-CE-023-AD at the beginning of your comments. We specifically invite comments on the overall regulatory, economic, environmental, and energy aspects of this final rule. We will consider all comments received by the closing date and may amend this final rule because of those comments.

We will post all comments we receive, without change, to http://www.regulations.gov, including any personal information you provide. We will also post a report summarizing each substantive verbal contact we receive about this final rule.

Costs of Compliance

We estimate that this AD affects 36 airplanes of U.S. registry.

We estimate the following costs to comply with this AD. Piper is currently developing the required inspection method, and the FAA anticipates it will be approved and available shortly after publication of this AD:

Estimated Costs
Action | Labor cost | Parts cost | Cost per product | Cost on U.S. operators
Inspection of the aft wing spars | 11 work-hours × $85 per hour = $935 | Not applicable | $935 | $33,660

We have no way of knowing how many airplanes may need the repair based on the results of the required inspection. Since there is not an approved repair procedure, we have no way of knowing the cost of the required repair.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes and domestic business jet transport airplanes to the Director of the Policy and Innovation Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-16-03 Piper Aircraft, Inc.: Amendment 39-18980; Docket No. FAA-2017-0759; Product Identifier 2017-CE-023-AD.

(a) Effective Date

This AD is effective August 9, 2017.

(b) Affected ADs

None.

(c) Applicability

This AD applies to Piper Aircraft, Inc. Model PA-46-600TP (M600) airplanes; serial numbers 4698004 through 4698042; certificated in any category.

(d) Subject

Joint Aircraft System Component (JASC)/Air Transport Association (ATA) of America Code 5711, Wing Spar.

(e) Unsafe Condition

This AD was prompted by a report from Piper Aircraft, Inc. (Piper) of an aft wing spar cracking during wing assembly of one of the affected airplanes. We are issuing this AD to prevent failure of the aft wing spar, which could lead to wing separation with consequent loss of control.

(f) Compliance

Comply with this AD within the compliance times specified, unless already done.

(g) Inspection and Repair

Before further flight, inspect the aft wing spars and, before further flight, repair as necessary following FAA-approved procedures obtained from the Atlanta ACO Branch approved specifically for this AD. Use the contact information found in paragraph (j) of this AD. We are coordinating with Piper on the development of inspection and repair procedures to address this unsafe condition. Piper Aircraft, Inc. Service Bulletin No. 1317, dated July 21, 2017 (not incorporated by reference), and Piper Service Bulletin No. 1317A, dated July 26, 2017, contain additional information related to this AD.

(h) Special Flight Permit

A special flight permit is allowed per 14 CFR 39.23 to relocate the airplane to a facility capable of performing the inspection and/or repair required by paragraph (g) of this AD provided that all criteria in Part II of Piper Service Bulletin No. 1317A, dated July 26, 2017, are adhered to.

(i) Alternative Methods of Compliance (AMOCs)

(1) The Manager, Atlanta ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j) of this AD.

(2) Before using any approved AMOC, notify your appropriate principal inspector, or lacking a principal inspector, the manager of the local flight standards district office/certificate holding district office.

(j) Related Information

For more information about this AD, contact William (Dan) McCully, Aerospace Engineer, Atlanta ACO Branch, FAA, 1701 Columbia Avenue, College Park, Georgia 30337; phone: (404) 474-5548; fax: (404) 474-5606; email: william.mccully@faa.gov.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Piper Aircraft, Inc. Service Bulletin No. 1317A, dated July 26, 2017.

(ii) Reserved.

(3) For Piper Aircraft, Inc. service information identified in this AD, contact Piper Aircraft, Inc., Customer Service, 2926 Piper Drive, Vero Beach, Florida 32960; telephone: (877) 879-0275; fax: none; email: customer.service@piper.com; Internet: www.piper.com.

(4) You may view this referenced service information at the FAA, Policy and Innovation Division, 901 Locust, Kansas City, Missouri 64106. For information on the availability of this material at the FAA, call (816) 329-4148. It is also available on the internet at http://www.regulations.gov by searching for and locating Docket No. FAA-2017-0759.

(5) You may view this service information that is incorporated by reference at the National Archives and Records Administration (NARA). For information on the availability of this material at NARA, call 202-741-6030, or go to: http://www.archives.gov/federal-register/cfr/ibr-locations.html.

Issued in Kansas City, Missouri, on July 28, 2017.
Pat Mullen,
Acting Deputy Director, Policy and Innovation Division, Aircraft Certification Service.

[FR Doc. 2017-16437 Filed 8-8-17; 8:45 am]

BILLING CODE 4910-13-P